DEPARTMENT OF COMMERCE

National Oceanic and Atmospheric Administration

Agency Information Collection Activities; Submission to the Office of Management and Budget (OMB) for Review and Approval; Comment Request; The Ocean Enterprise: A Study of U.S. Business Activity in Ocean Measurement, Observation and Forecasting

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 23, 2022 (87 FR 58071) during a 60-day comment period. This notice allows for an additional 30 days for public comments.

Agency: National Oceanic & Atmospheric Administration (NOAA), Commerce.

Title: The Ocean Enterprise: A study of U.S. business activity in ocean measurement, observation and forecasting.

OMB Control Number: 0648-0712.

Form Number(s): None.

Type of Request: Regular submission; Extension of a current information collection.

Number of Respondents: 315.

Average Hours per Response: 0.5 hour.

Total Annual Burden Hours: 157.5 hours.

Needs and Uses: This is a request for extension of an existing information collection.

NOAA's National Ocean Service's U.S. Integrated Ocean Observing System (IOOS) Office is requesting approval to continue a web-based survey of employers who provide either services or infrastructure to IOOS or organizations that add value to the IOOS data and other outputs by tailoring them for specific end uses. The purpose of the survey and overall project is to gather data to articulate the collective and derived value of the IOOS enterprise and to create a profile of businesses and organizations who are involved with providing services or utilizing the data for other specific end uses. This survey was conducted in FY2015 and FY2020, and is intended to be repeated on a regular basis in order to track the growth of the U.S. Ocean Enterprise. The survey is a critical data collection piece of the project and is necessary in order to collect demographic, financial, and functional information for each organization with regard to their involvement with IOOS. The final deliverable of this project is an analytic report detailing the findings of the web survey and the analysis of the employer database. The results will demonstrate the size and economic impact of IOOS data to the United States marine ocean sector.

Affected Public: Business or other for-profit organizations and Not-for-profit institutions.

Frequency: Every 5 years.

Respondent's Obligation: Voluntary.

Legal Authority: Section 12304 of the Integrated Coastal and Ocean Observation System Act, part of the Omnibus Public Land Management Act of 2009 (Pub. L. 111-11), and reauthorized under the Coordinated Ocean Observations and Research Act of 2020 (Pub. L. 116-271).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0712.

Sheleen Dumas,
Department PRA Clearance Officer, Office of the Chief Information Officer, Commerce Department.

[FR Doc. 2023-00024 Filed 1-5-23; 8:45 am]

BILLING CODE 3510-JE-P